DEPARTMENT OF COMMERCE

International Trade Administration

Agency Information Collection Activities; Submission to the Office of Management and Budget (OMB) for Review and Approval; Comment Request; EU-U.S. Privacy Shield; Invitation for Applications for Inclusion on the List of Arbitrators

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 24, 2020, during a 60-day comment period. This notice allows for an additional 30 days for public comments.

Agency: International Trade Administration.

Title: EU-U.S. Privacy Shield; Invitation for Applications for Inclusion on the List of Arbitrators.

OMB Control Number: 0625-0277.

Form Number(s): None.

Type of Request: Regular submission, revision of a current information collection.

Number of Respondents: 40.

Average Hours per Response: 240 minutes.

Burden Hours: 160 hours.

Needs and Uses: As described in Annex I of the EU-U.S. Privacy Shield Framework, the Department of Commerce (the Department) and the European Commission (the Commission) committed to implement an arbitration mechanism to provide European individuals with the ability to invoke binding arbitration to determine, for residual claims, whether an organization has violated its obligations under the Privacy Shield. Organizations voluntarily self-certify to the EU-U.S. Privacy Shield Framework and, upon certification, the commitments the organization has made to comply with the EU-U.S. Privacy Shield Framework become legally enforceable under U.S. law. Organizations that self-certify to the EU-U.S. Privacy Shield Framework commit to binding arbitration of residual claims if a European individual chooses to exercise that option. Under the arbitration option, a Privacy Shield Panel (consisting of one or three arbitrators, as agreed by the parties) has the authority to impose individual-specific, non-monetary equitable relief (such as access, correction, deletion, or return of the European individual's data in question) necessary to remedy the violation of the EU-U.S. Privacy Shield Framework only with respect to the European individual. The Department and the Commission will seek to maintain a list of at least 20 arbitrators chosen based on independence, integrity, and expertise from which the parties will select the arbitrators. The arbitral mechanism outlined in Annex I of the EU-U.S. Privacy Shield Framework and Swiss-U.S. Privacy Shield Framework is a critical component of the Privacy Shield frameworks. Publishing this notice to collect information from individuals applying for inclusion on the list of arbitrators is a necessary step to maintain the arbitral mechanism. The Department previously requested and obtained approval of this information collection (OMB Control No. 0625-0277) and now seeks renewal of this information collection. Although the Department is not currently seeking additional applications, it may do so in the future as appropriate.

Affected Public: Private individuals.

Frequency: Recurrent, depending on the number of arbitrators required to retain an active list of 20 arbitrators.

Respondent's Obligation: Required to obtain or retain benefits.

Legal Authority: The Department's statutory authority to foster, promote, and develop international commerce (15 U.S.C. 1512).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0625-0277.

Sheleen Dumas,
Department PRA Clearance Officer, Office of the Chief Information Officer, Commerce Department.

[FR Doc. 2021-01803 Filed 1-26-21; 8:45 am]

BILLING CODE 3510-DS-P